DEPARTMENT OF THE TREASURY

Office of Thrift Supervision

12 CFR Part 535

[Docket ID. OTS-2008-0004]

RIN 1550-AC17

NATIONAL CREDIT UNION ADMINISTRATION

12 CFR Part 706

RIN 3133-AD47

Unfair or Deceptive Acts or Practices; Correction

AGENCIES: Office of Thrift Supervision, Treasury (OTS); and National Credit Union Administration (NCUA).

ACTION: Proposed rule; correction.

SUMMARY: This document corrects the preamble to a proposed rule published in the Federal Register on May 19, 2008, regarding Unfair or Deceptive Acts or Practices. This correction revises cross-references in OTS's and the NCUA's Paperwork Reduction Act (PRA) analysis.

FOR FURTHER INFORMATION CONTACT: OTS: Ira L. Mills, Paperwork Clearance Officer, (202) 906-6531, Office of Thrift Supervision, 1700 G Street, NW., Washington, DC 20552. Comments on the collection of information should be addressed to: Information Collection Comments, Chief Counsel's Office, Office of Thrift Supervision, 1700 G Street, NW., Washington, DC 20552; send a facsimile transmission to (202) 906-6518; or send an e-mail to infocollection.comments@ots.treas.gov.

NCUA: Jeryl Fish, Paperwork Clearance Officer, or Tracy Sumpter, Computer Information Assistant, (703) 518-6440, National Credit Union Administration, 1775 Duke Street, Alexandria, VA 22314-3428. Comments on the collection of information should be addressed to: Jeryl Fish, Paperwork Clearance Officer, National Credit Union Administration, 1775 Duke Street, Alexandria, VA 22314-3428; send a facsimile to (703) 518-6319; or send an e-mail to regcomments@ncua.gov.

Correction

In proposed rule FR Doc. E8-10247, beginning on page 28904 in the issue of May 19, 2008, make the following correction to the SUPPLEMENTARY INFORMATION section. On page 28937 in the third column, first paragraph, revise the fifth sentence to read: “The requirements are found in 12 CFR 535.13, 535.28, 535.32, 706.13, 706.28, and 706.32.”

Dated: May 28, 2008.
By the Office of Thrift Supervision,
Deborah Dakin,
Senior Deputy Chief Counsel.
By the National Credit Union Administration Board, on May 27, 2008.
Mary F. Rupp,
Secretary of the Board.

[FR Doc. E8-12359 Filed 6-2-08; 8:45 am]

BILLING CODE 6720-01-P (50%); 7535-01-P (50%)